DEPARTMENT OF COMMERCE

International Trade Administration

[A-475-818]

Certain Pasta From Italy: Initiation and Preliminary Results of Changed Circumstances Review, and Intent To Revoke Order in Part

AGENCY: Import Administration, International Trade Administration, Department of Commerce

DATES: Effective Date: July 2, 2009.

SUMMARY: On May 26, 2009, the Department of Commerce (“Department”) received a request for a changed circumstances review and a request to revoke, in part, the antidumping duty order on certain pasta from Italy with respect to gluten-free pasta. The Department confirmed that petitioners ¹ have no interest in antidumping duty relief from imports of gluten-free pasta. Therefore, we are notifying the public of our intent to revoke, in part, the antidumping duty order as it relates to imports of gluten-free pasta as described below. The Department invites interested parties to comment on these preliminary results.

¹ New World Pasta Company, Dakota Growers Pasta Company, and American Italian Pasta Company.

FOR FURTHER INFORMATION CONTACT: Christopher Hargett, Import Administration, International Trade Administration, U.S. Department of Commerce, 14th Street and Constitution Avenue, NW., Washington DC 20230; telephone (202) 482-4161.

Background

On July 24, 1996, the Department published in the Federal Register the antidumping duty order on pasta from Italy. See Notice of Antidumping Duty Order and Amended Final Determination of Sales at Less Than Fair Value: Certain Pasta From Italy, 61 FR 38547 (July 24, 1996).

On February 3, 2009, the Department received a request on behalf of Pasta Lensi S.r.L. (“Lensi”) for a changed circumstances review to revoke, in part, the antidumping duty order on certain pasta from Italy with respect to gluten-free pasta. We did not receive comments from any other party.

Scope of the Order

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded are imports of organic pasta from Italy that are accompanied by the appropriate certificate issued by the Instituto Mediterraneo Di Certificazione, by Bioagricoop Scrl, by QC&I International Services, by Ecocert Italia, by Consorzio per il Controllo dei Prodotti Biologici, by Associazione Italiana per l'Agricoltura Biologica, or by Instituto per la Certificazione Etica e Ambientale (“ICEA”) are also excluded from this order. See Memorandum from Audrey Twyman to Susan Kuhbach, dated February 28, 2006, “Recognition of Instituto per la Certificazione Etica e Ambientale.”

The merchandise subject to this order is currently classifiable under subheadings 1901.90.95 and 1902.19.20 of the Harmonized Tariff Schedule of the United States (“HTSUS”). Although the HTSUS subheadings are provided for convenience and customs purposes, the written description of the merchandise subject to the order is dispositive.

Initiation and Preliminary Results of Changed Circumstances Review, and Intent To Revoke Order in Part

At the request of Lensi, and in accordance with sections 751(b)(1) and (d)(1) of the Tariff Act of 1930, as amended (“Act”), and 19 CFR 351.216, the Department is initiating a changed circumstances review of certain pasta from Italy to determine whether partial revocation of the antidumping duty order is warranted with respect to gluten-free pasta. Section 782(h)(2) of the Act and 19 CFR 351.222(g)(1)(i) provide that the Department may revoke an order (in whole or in part) if it determines that producers accounting for substantially all of the production of the domestic like product have no further interest in the order, in whole or in part. In addition, in the event the Department determines that expedited action is warranted, 19 CFR 351.221(c)(3)(ii) permits the Department to combine the notices of initiation and preliminary results.

In accordance with section 751(b) of the Act, and 19 CFR 351.222(g)(l)(i) and 351.221(c)(3), we are initiating this changed circumstances review and have determined that expedited action is warranted. Lensi stated in its May 26, 2009, request that petitioners support the request for changed circumstances review as filed. The certificate of service for Lensi's May 26, 2009, request indicates that the request was served on counsel for petitioners in the current review of this proceeding. On June 1, 2009, the Department spoke with counsel for petitioners who stated that they had knowledge of the request before it was filed, and supported the request.² In accordance with section 751(b) of the Act and 19 CFR 351.222(g)(1)(i), and absent any evidence to the contrary, we find petitioners comprise substantially all of the production of the domestic like product. See Pasta Lensi May 26, 2009, letter to the Department. Petitioners have expressed a lack of interest in the order, in part, with respect to gluten-free pasta.³ Based on the expression of no interest by petitioners, and absent any objection by any other interested parties, we have preliminarily determined that the domestic producers of the like product have no interest in the continued application of the antidumping duty order on certain pasta from Italy to the merchandise that is subject to this request. Accordingly, we are notifying the public of our intent to revoke, in part, the antidumping duty order with respect to gluten-free pasta. Therefore, we intend to change the scope of the order on certain pasta from Italy to include the following exclusion: Excluded from the scope is gluten-free pasta.

²See Memo from Christopher Hargett, Case Analyst, AD/CVD Operations 3, to Melissa Skinner, Office Director, AD/CVD Operations 3 entitled “Phone Conversation with Counsel for Petitioners,” dated June 2, 2009.

³ See id.

Public Comment

Interested parties are invited to comment on these preliminary results. Written comments may be submitted no later than 14 days after the date of publication of these preliminary results. Rebuttals to written comments, limited to issues raised in such comments, may be filed no later than 21 days after the date of publication of these preliminary results. The Department will issue the final results of this changed circumstances review, which will include its analysis of any written comments, no later than 270 days after the date on which this review was initiated, or within 45 days if all parties agree to our preliminary results. See 19 CFR 351.216(e).

If final revocation occurs, we will instruct U.S. Customs and Border Protection to end the suspension of liquidation for the merchandise covered by the revocation on the effective date of the notice of revocation and to release any cash deposit or bond. See 19 CFR 351.222(g)(4). The current requirement for a cash deposit of estimated antidumping duties on all subject merchandise will continue unless and until it is modified pursuant to the final results of this changed circumstances review.

This initiation and preliminary results of review and notice are in accordance with sections 751(b) and 777(i) of the Act and 19 CFR 351.216, 351.221, and 351.222.

Dated: June 26, 2009.
Ronald K. Lorentzen,
Acting Assistant Secretary for Import Administration.

[FR Doc. E9-15707 Filed 7-1-09; 8:45 am]

BILLING CODE 3510-DS-P